ENVIRONMENTAL PROTECTION AGENCY

[ER-FRL-6611-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076. An explanation of the ratings assigned to draft environmental impact statements (EISs) was published in FR dated April 14, 2000 (65 FR 20157).

Draft EISs

ERP No. D-USN-D11030-VA Rating EC2, Marine Corps Heritage Center (MCHC) Complex, Construction and Operation at Marine Corps Base (MCB) Quantico, VA.

Summary: EPA expressed concern due to the loss of valuable forested habitat. EPA recommended reducing the area of deforestation by consolidating MCHC functions into multi-story buildings and creating underground and/or raised parking structures as well as reducing to a minimum the size of the area needed for demonstration operations.

Final EISs

ERP No. F-FHW-B40090-ME Augusta River Crossing Study, To Reduce Traffic Deficiencies within the Transportation System Serving the City of Augusta, Funding, Kennebec River, Kennebec County, ME.

Summary: A number of the concerns regarding analysis of alternatives and potential impacts EPA raised in its review of the draft EIS remain unaddressed in the final EIS.

ERP No. F-FHW-D40306-WV King Coal Highway Project Construction, from the vicinity of Williamson to the vicinity of Bluefield, COE Section 404 Permit, Mingo, McDowell Mercer, and Wyoming Counties, WV.

Summary: EPA maintains its concerns regarding the level of information provided in assessing the impacts to streams, wetlands, and community resources for the proposed 96 mile transportation corridor.

ERP No. F-FHW-J40145-UT Legacy Parkway Project, Construction from I-215 at 2100 North in Salt Lake City to I-15 and US 89 near Farmington, Funding and COE Section 404 Permit, Salt Lake and Davis Counties, UT.

Summary: EPA continues to have objections to the proposed action. EPA has determined that the least damaging alternative has not been selected, and the proposed Legacy Nature Preserve does not fully offset the wetland impacts. EPA is also concerned with the alternative selection process used in the FEIS, the permanence of the proposed Legacy Preserve, the accuracy and reproducibility of the traffic demand model, and the impacts of connected and reasonably foreseeable future actions.

Adoption—Woodrow Wilson Bridge Replacement, I-95/I-495 From West of Telegraph Road to East of MD Routes 210, City of Alexandria and Fairfax County, VA; Prince George's County, MD and DC.

Summary: EPA's key concerns pertain to time of year restrictions to protect fishery resources, upland disposal of dredged material, and completion of a comprehensive compensatory mitigation package.

ERP No. FS-COE-E36167-FL Central and Southern Florida Project for Flood Control and Other Purposes, Everglades National Park Modified Water Deliveries, New Information concerning Flood Mitigation to the 8.5 Square Mile Area (SMA), Implementation, South Miami, Dade County, FL.

Summary: EPA agreed that Alternative 6D (modified) reasonably maximized ecosystem restoration benefits when compared to the costs and social impacts.

Dated: October 10, 2000.
Joseph C. Montgomery,
Director, NEPA Compliance Division, Office of Federal Activities.

[FR Doc. 00-26387 Filed 10-12-00; 8:45 am]

BILLING CODE 6560-50-P